DEPARTMENT OF THE INTERIOR

Bureau of Land Management

[CO-160-08-1110-PI]

Notice of Order Closing Public Lands to Motorized Use, Gunnison and Saguache Counties, CO

AGENCY: Bureau of Land Management, Department of the Interior.

ACTION: Notice of Closure.

SUMMARY: To protect fragile, wintering mule deer, bighorn sheep, pronghorn antelope, and elk herds, the Bureau of Land Management (BLM) is closing to motorized use this winter, certain public lands in the Gunnison Basin. This action is in coordination with the Colorado Division of Wildlife's emergency winter feeding program for big game herds in the Gunnison Basin. The BLM and CDOW have cooperatively identified winter feeding areas and procedures, as well as area closures in conjunction with the feeding program. Extreme snow depths, combined with extreme cold temperatures, have prompted the closure and emergency feeding decisions.

DATES: The closure for this winter will take effect immediately and will end on April 30, 2008 unless terminated sooner by the BLM Authorized Officer.

ADDRESSES: The address of the BLM Authorized Officer is: Field Manager, Gunnison Field Office, 216 N. Colorado St., Gunnison, Colorado 81230. Maps of the closure areas will be available at the Gunnison Field Office, 216 N. Colorado St., Gunnison, Colorado 81230. Additionally, signs will be posted at places near and/or within the areas to which the closure applies.

FOR FURTHER INFORMATION CONTACT: Kenny McDaniel, Field Manager, Gunnison Field Office, 216 N. Colorado St., Gunnison, Colorado 81230; telephone (970) 641-0471.

SUPPLEMENTARY INFORMATION: Due to extreme snow depths and extreme cold temperatures, big game in the Gunnison Basin are highly stressed. The Colorado Division of Wildlife has begun an emergency winter feeding program for mule deer, bighorn sheep, pronghorn antelope, and elk herds. The Gunnison Resource Area Approved Resource Management Plan (RMP) specifically provides for winter closures to protect wintering big game when necessary. The purpose of this motorized use closure is to prevent undue and unnecessary disturbance and harm to wintering mule deer, bighorn sheep, pronghorn antelope, and elk herds concentrating on crucial winter range. This order pertains to identified areas (shown on the maps) on public lands in Gunnison and Saguache Counties, Colorado, thus described:

Public Lands within New Mexico Principal Meridian, north of U.S. Highway 50:

T.49N., R.4W., secs. 13-14, sec. 24, E½;

T.49N., R.3W., secs. 1-26;

T.50N., R.2W., sec. 12, south of West Antelope Creek, secs. 13-14, 23-26, 35-36;

T.49N., R.2W., secs. 1-24, sec.30;

T.50N., R.1W., sec. 17, south of West Antelope Creek, secs. 20-21, 26-33;

T.49N., R.1W., secs. 4-6;

T.50N., R.1E., secs. 1-4, 9-16, 19-30, 32-36;

T.49N., R.1E.. secs. 1-3, 12;

T.50N., R.2E., secs.17-21, 25-36;

T.49N., R.2E., secs. 1-14;

T.50N., R.3E., secs. 28-33;

T.49N., R.3E., secs. 3-10, 13-29, 33-36;

T.48N., R.3E., sec. 1;

T.49N., R.4E., secs. 19, 29-32;

T.48N., R.4E., secs. 4-9, 15.

Public Lands within New Mexico Principal Meridian, south of U.S. Highway 50, west of Razor Creek, north of Camp Kettle Gulch/Poverty Gulch Road, and east of Colorado Highway 114:

T.49N., R.2E., secs. 21-23, 25-28, 33-36;

T.48N., R.2E., secs. 1-4, 9-16, 21-27, 35-36;

T.49N., R.3E., secs. 30-32;

T.48N., R.3E., secs. 4-8, 17-20, 29-31.

Exceptions to this temporary motorized use closure include the following:

1. BLM Road #3103 (North Parlin Flats Road) to the U.S. Forest Service boundary is open to motorized use as seasonal conditions allow.

2. Any Federal, State, or local officer or employee acting within the scope of their duties, members of any organized rescue in the performance of an official duty, or any person holding written permission from the BLM.

3. Persons or agencies holding a special use permit or right-of-way for access to exercise their permit within the restricted area, for purposes related to access for maintenance and operation of authorized facilities, and provided such motorized use is limited to the routes specifically identified in the special use permit or right-of-way.

Authority

This emergency closure order is issued under the authority of 43 Code of Federal Regulations 8364.1 and 9268.3.

Penalties: Any person who knowingly and willfully violates any closure order issued under 42 CFR 8364.1 shall be subject to the penalties provided for in CFR Title 43, subpart 8360.0-7, and may be fined not more than $1,000 and/or imprisoned for not more than 12 months. Such violations may also be subject to the enhanced fines provided for by 18 U.S.C. 3571.

Dated: January 22, 2008.
Kenny McDaniel,
Field Manager, Gunnison Field Office.

[FR Doc. E8-1551 Filed 1-29-08; 8:45 am]

BILLING CODE 3410-11-P